DEPARTMENT OF HEALTH AND HUMAN SERVICES

Centers for Disease Control and Prevention

[60Day-05AU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5978 or send comments to Sandi Gambescia, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Fire Fighter Fatality Investigation and Prevention Program (FFFIPP)—NEW—The National Institute for Occupational Safety and Health (NIOSH), Centers for Disease Control and Prevention (CDC).

The Fire Fighter Fatality Investigation and Prevention Program (FFFIPP) addresses an important public health need to protect the lives of America's front line emergency responders, those whose job is to save lives and protect property. The FFFIPP was established in fiscal year 1998 in order to investigate the deaths and severe injuries that occur to fire fighters for the purpose of identifying high risk situations and to develop recommendations for prevention.

The purpose of this project is to evaluate the impact of the Fire Fighter Fatality Investigation and Prevention Program (FFFIPP), and the effects of the FFFIPP recommendations and information products which are periodically distributed to the nation's 30,000 fire departments. This study will examine career and volunteer; large and small size; and urban and rural fire departments to determine the extent to which firefighter reports, recommendations and other information products are being implemented by fire departments. This evaluation will also measure the effects of the FFFIPP on the knowledge, behavior, attitudes and safety practices of fire department management.

This study will consist of a mail survey of 1,140 fire departments to obtain information from the officers (Captain, Safety Officer and Training Officer or Lieutenants) regarding use of the FFFIPP information products. There will also be a set of six focus groups for active, front-line firefighters; each focus group will have approximately 9 participants.

The FFFIPP investigated approximately 114 injury fatalities and 101 cardiovascular disease fatalities over the first 5 years of operations. Reports based on these investigations are mailed to select fire departments on a regular basis. An evaluation of the program at this time is appropriate because the FFFIPP has acquired sufficient data on firefighter fatalities to permit substantial improvements in knowledge, awareness and the practice of fire fighting. The FFFIPP information products have been published and disseminated with sufficient time to allow positive changes. An evaluation at this time could ultimately reduce risk for firefighters through elimination of barriers to better knowledge, behavior, attitudes and safety practices for fire department leadership/management and for front-line firefighters. Evaluation provides a means to strengthen the impact of the program through modification or re-direction of the FFFIPP strategy.

CDC proposes to conduct an evaluation survey that will include 1,140 fire departments. A fire department survey (Tier 1) and focus groups (Tier 2) will be used to collect data for this evaluation. The fire department survey will use a cross-sectional design with restricted random sampling. The sample will include each of the 215 fire departments where an investigation has been done. For comparison, a random sample of 300 fire departments where there has not been any investigation will be selected and surveyed. The ten largest fire departments will be deliberately included in the sample because of their unique status. The random selection of additional fire departments will be restricted to balance various factors such as the number of volunteer vs. career, rural vs. urban and other considerations. To supplement findings from the Tier 1 Fire Department Survey, the evaluation team will conduct a series of six focus groups with firefighters from across the country. These Tier 2 focus group discussions will serve as avenues for exploring how and why the FFFIPP may have had an impact. Information collected in the focus groups will thus complement the Tier 1 Fire Department Survey by providing rich descriptions of the ways in which FFFIPP may have affected firefighter knowledge, attitudes, behaviors, and safety practices. The focus groups (Tier 2) will take place either at a national conference of firefighters or at local venues convenient to the fire departments represented by the participants. Each focus group will take 1½ hours. Questions will address firefighter knowledge, attitudes, behavior, and safety practices. Data collection will take no more than 5 to 12 months to complete after OMB approval. There are no costs to respondents except their time to participate in the survey.

Annualized Burden Table
Data collection instruments | Number of respondents | Number of responses | Average burden per response | Total burden hours
Fire Dept. Survey | 1,140 | 1 | 25/60 | 475
Focus Group Guide—Fire Fighters | 54 | 1 | 1.5 | 81
Total | 1,194 |  |  | 556

Dated: December 23, 2004.
Joseph E. Salter,
Acting Director, Management Analysis and Services Office, Centers for Disease Control and Prevention.

[FR Doc. 04-28609 Filed 12-29-04; 8:45 am]

BILLING CODE 4163-18-P